DEPARTMENT OF ENERGY

Federal Energy Regulatory Commission

Combined Notice of Filings #1

Take notice that the Commission received the following exempt wholesale generator filings:

Docket Numbers: EG24-171-000.

Applicants: Yum Yum Solar LLC.

Description: Yum Yum Solar LLC submits Notice of Self-Certification of Exempt Wholesale Generator Status.

Filed Date: 4/30/24.

Accession Number: 20240430-5577.

Comment Date: 5 p.m. ET 5/21/24.

Take notice that the Commission received the following electric rate filings:

Docket Numbers: ER10-1823-005; ER10-2498-007; ER13-412-006; ER10-1410-008; ER16-1750-011; ER16-2601-009; ER17-339-002; ER17-1037-005; ER17-2292-009; ER17-2381-008; ER19-1656-008; ER20-2123-006; ER20-2768-006; ER23-666-002.

Applicants: Foxhound Solar, LLC, Greensville County Solar Project, LLC, Hardin Solar Energy LLC, Wilkinson Solar LLC, Scott-II Solar LLC, Southampton Solar, LLC, Innovative Solar 37, LLC, 96WI 8ME, LLC, Summit Farms Solar, LLC, Eastern Shore Solar LLC, Virginia Electric and Power Company, Dominion Nuclear Connecticut, Inc., South Carolina Electric & Gas Transmission, Dominion Energy Marketing, Inc.

Description: Notice of Change in Status of Dominion Energy Marketing, Inc., et al.

Filed Date: 4/30/24.

Accession Number: 20240430-5603.

Comment Date: 5 p.m. ET 5/21/24.

Docket Numbers: ER10-2881-042; ER10-2882-042; ER10-2883-040; ER10-2884-040; ER16-2509-011; ER17-2400-012; ER17-2401-012; ER17-2403-012; ER17-2404-012.

Applicants: SP Sandhills Solar, LLC, SP Pawpaw Solar, LLC, SP Decatur Parkway Solar, LLC, SP Butler Solar, LLC, Rutherford Farm, LLC, Georgia Power Company, Mississippi Power Company, Southern Power Company, Alabama Power Company.

Description: Notice of Non-Material Change in Status of Alabama Power Company, et al.

Filed Date: 4/30/24.

Accession Number: 20240430-5605.

Comment Date: 5 p.m. ET 5/21/24.

Docket Numbers: ER10-2984-066.

Applicants: Merrill Lynch Commodities, Inc.

Description: Notice of Change in Status of Merrill Lynch Commodities, Inc.

Filed Date: 4/30/24.

Accession Number: 20240430-5607.

Comment Date: 5 p.m. ET 5/21/24.

Docket Numbers: ER17-1394-010; ER10-1328-006; ER10-1330-011; ER10-1331-006; ER10-1332-006; ER10-1427-010; ER10-2522-007; ER10-2567-007; ER12-1502-009; ER12-1504-009; ER12-2313-009; ER13-1139-026; ER14-2630-019; ER16-61-006; ER16-63-006; ER16-64-006; ER16-141-008; ER16-355-006; ER16-2527-006; ER17-2-007; ER17-360-005; ER17-361-005; ER17-362-005; ER17-539-004; ER17-540-004; ER17-2336-009; ER18-1343-018; ER19-89-002; ER19-529-016; ER19-1074-016; ER19-1075-016; ER19-1819-008; ER19-1820-008; ER19-1821-008; ER19-2684-004; ER20-1487-005; ER21-2426-004; ER22-398-003; ER22-1627-004; ER22-1883-004; ER22-2042-004; ER23-921-003; ER23-1939-003; ER23-2203-003; ER23-2363-003; ER24-443-002; ER24-444-002; ER24-957-001.

Applicants: Franklin Solar LLC, Deriva Energy Beckjord Storage LLC, Deriva Energy Services, LLC, HXOap Solar One, LLC, Wildflower Solar, LLC, Pike Solar LLC, Black Mesa Energy, LLC, Jackpot Holdings, LLC, Ledyard Windpower, LLC, AM Wind Repower LLC, Mesa Wind Power LLC, CPRE 1 Lessee, LLC, Frontier Windpower II, LLC, Palmer Solar, LLC, Speedway Solar NC, LLC, Stony Knoll Solar, LLC, Broad River Solar, LLC, Brookfield Renewable Energy Marketing US LLC, Brookfield Energy Marketing Inc., Renewable Trading and Marketing LP, North Rosamond Solar, LLC, Carolina Solar Power, LLC, Shoreham Solar Commons LLC, Wildwood Solar II, LLC, Wildwood Solar I, LLC, Rio Bravo Solar II, LLC, Pumpjack Solar I, LLC, Rio Bravo Solar I, LLC, Frontier Windpower, LLC, Caprock Solar I LLC, Colonial Eagle Solar, LLC, Conetoe II Solar, LLC, Tallbear Seville LLC, Seville Solar Two, LLC, Seville Solar One LLC, Regulus Solar, LLC, Imperial Valley Solar 1, LLC, Laurel Hill Wind Energy, LLC, Cimarron Windpower II, LLC, Ironwood Windpower, LLC, Kit Carson Windpower, LLC, Top of the World Wind Energy, LLC, Brookfield Energy Marketing LP, Three Buttes Windpower, LLC, Silver Sage Windpower, LLC, North Allegheny Wind, LLC, Happy Jack Windpower, LLC, 83WI 8me, LLC.

Description: Notice of Non-Material Change in Status of 83WI 8me, LLC, et al.

Filed Date: 4/29/24.

Accession Number: 20240429-5455.

Comment Date: 5 p.m. ET 5/20/24.

Docket Numbers: ER19-158-014; ER10-1547-016; ER10-1975-032; ER10-2421-012; ER10-2616-026; ER10-2617-013; ER10-2619-014; ER10-2674-016; ER10-2677-017; ER11-2449-003; ER11-2457-012; ER11-4400-023; ER12-75-015; ER12-192-018; ER12-1769-014; ER12-2250-013; ER12-2251-013; ER12-2252-014; ER12-2253-013; ER13-2475-015; ER14-883-018; ER14-1569-019; ER14-2245-013; ER15-1596-019; ER15-1598-010; ER15-1599-019; ER15-1600-009; ER15-1602-009; ER15-1605-009; ER15-1607-009; ER19-102-012; ER19-2803-011; ER19-2807-011; ER19-2809-011; ER19-2810-011; ER19-2811-011; ER20-1436-005; ER20-1438-005; ER20-2414-006; ER20-2415-006; ER22-2736-002.

Applicants: Moss Landing Energy Storage 3, LLC, Moss Landing Energy Storage 2, LLC, Moss Landing Energy Storage 1, LLC, Energy Harbor Nuclear Generation LLC, Energy Harbor LLC, Viridian Energy, LLC, Viridian Energy PA, LLC, Viridian Energy NY, LLC, Energy Rewards, LLC, Cincinnati Bell Energy LLC, Luminant Energy Company LLC, Washington Power Generation LLC, Miami Fort Power Company LLC, Hanging Rock Power Company LLC, Fayette Power Company LLC, Dynegy Energy Services (East), LLC, Dicks Creek Power Company LLC, Luminant Commercial Asset Management LLC, TriEagle Energy, LP, Dynegy Energy Services, LLC, Illinois Power Marketing Company, Kincaid Generation, L.L.C., Public Power & Utility of Maryland, LLC, Public Power (PA), LLC, Public Power & Utility of NY, Inc, Everyday Energy NJ, LLC, Everyday Energy, LLC, Liberty Electric Power, LLC, Public Power LLC, Dynegy Power Marketing, LLC, Massachusetts Gas & Electric, Inc., Connecticut Gas & Electric, Inc., Pleasants Energy, LLC, Calumet Energy Team, LLC, Kendall Power Company, LLC, Ontelaunee Power Operating Company LLC, Dynegy Marketing and Trade, LLC, Energy Services Providers, LLC, Sayreville Power Generation LP, Hopewell Power Generation, LLC, Ambit Northeast, LLC.

Description: Notice of Non-Material Change in Status of Ambit Northeast, LLC, et al.

Filed Date: 4/30/24.

Accession Number: 20240430-5604.

Comment Date: 5 p.m. ET 5/21/24.

Docket Numbers: ER22-1101-002; ER22-1102-002.

Applicants: Sierra Energy Storage, LLC, Cascade Energy Storage, LLC.

Description: Notice of Change in Status of Cascade Energy Storage, LLC, et al.

Filed Date: 4/30/24.

Accession Number: 20240430-5609.

Comment Date: 5 pm ET 5/21/24.

Docket Numbers: ER23-2668-003.

Applicants: Richfield Solar Energy LLC.

Description: Notice of Change in Status of Richfield Solar Energy LLC.

Filed Date: 4/30/24.

Accession Number: 20240430-5611.

Comment Date: 5 p.m. ET 5/21/24.

Docket Numbers: ER23-2746-002.

Applicants: El Sol Storage LLC.

Description: Notice of Change in Status of El Sol Storage LLC.

Filed Date: 4/30/24.

Accession Number: 20240430-5610.

Comment Date: 5 p.m. ET 5/21/24.

Docket Numbers: ER24-188-001.

Applicants: Wild Springs Solar, LLC.

Description: Notice of Change in Status of Wild Springs Solar, LLC.

Filed Date: 4/30/24.

Accession Number: 20240430-5608.

Comment Date: 5 p.m. ET 5/21/24.

Docket Numbers: ER24-1191-000.

Applicants: Midcontinent Independent System Operator, Inc.

Description: Report Filing: 2024-04-30_Supplemental Filing to Forced-Off Asset Reforms to be effective N/A.

Filed Date: 4/29/24.

Accession Number: 20240429-5347.

Comment Date: 5 p.m. ET 5/6/24.

Docket Numbers: ER24-1384-001.

Applicants: Tampa Electric Company.

Description: Compliance filing: Compliance Filing—FERC Order 2023-A to be effective 5/1/2024.

Filed Date: 4/30/24.

Accession Number: 20240430-5353.

Comment Date: 5 p.m. ET 5/21/24.

Docket Numbers: ER24-1898-000.

Applicants: Midcontinent Independent System Operator, Inc., Otter Tail Power Company.

Description: 205(d) Rate Filing: Midcontinent Independent System Operator, Inc. submits tariff filing per 35.13(a)(2)(iii: 2024-04-30_SA 4282 OTP-GRE T-T (Erie) to be effective 6/15/2024.

Filed Date: 4/30/24.

Accession Number: 20240430-5328.

Comment Date: 5 p.m. ET 5/21/24.

Docket Numbers: ER24-1899-000.

Applicants: AEP Texas Inc.

Description: 205(d) Rate Filing: AEPTX-Corpus Battery Storage Generation Interconnection Agreement to be effective 4/9/2024.

Filed Date: 4/30/24.

Accession Number: 20240430-5339.

Comment Date: 5 p.m. ET 5/21/24.

Docket Numbers: ER24-1900-000.

Applicants: Duke Energy Carolinas, LLC.

Description: 205(d) Rate Filing: DEC-Lockhart RS No. 332 to be effective 1/1/2023.

Filed Date: 4/30/24.

Accession Number: 20240430-5400.

Comment Date: 5 p.m. ET 5/21/24.

Docket Numbers: ER24-1901-000.

Applicants: Yum Yum Solar LLC.

Description: Baseline eTariff Filing: Application for Market Based Rate Authorization to be effective 5/1/2024.

Filed Date: 4/30/24.

Accession Number: 20240430-5409.

Comment Date: 5 p.m. ET 5/21/24.

Docket Numbers: ER24-1902-000.

Applicants: Nevada Power Company.

Description: 205(d) Rate Filing: Service Agreement for Conditional LTF Point to Point Service with Powerex Corp. to be effective 4/1/2024.

Filed Date: 5/1/24.

Accession Number: 20240501-5001.

Comment Date: 5 p.m. ET 5/22/24.

Docket Numbers: ER24-1904-000.

Applicants: Midcontinent Independent System Operator, Inc.

Description: 205(d) Rate Filing: 2024-05-01_SA 4281 Ameren IL-Grain Belt MPFCA (J1488 J1490) to be effective 4/22/2024.

Filed Date: 5/1/24.

Accession Number: 20240501-5091.

Comment Date: 5 p.m. ET 5/22/24.

Docket Numbers: ER24-1905-000.

Applicants: Midcontinent Independent System Operator, Inc., Entergy Services, LLC.

Description: 205(d) Rate Filing: Midcontinent Independent System Operator, Inc. submits tariff filing per 35.13(a)(2)(iii: 2024-05-01_Entergy Companies Revisions to Schedule 41 to be effective 7/1/2024.

Filed Date: 5/1/24.

Accession Number: 20240501-5188.

Comment Date: 5 p.m. ET 5/22/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: May 1, 2024.
Debbie-Anne A. Reese,
Acting Secretary.

[FR Doc. 2024-09984 Filed 5-7-24; 8:45 am]

BILLING CODE 6717-01-P